FEDERAL COMMUNICATIONS COMMISSION

Notice of Public Information Collection(s) Being Reviewed by the Federal Communications Commission, Comments Requested

September 12, 2002.

SUMMARY: The Federal Communications Commission, as part of its continuing effort to reduce paperwork burden invites the general public and other Federal agencies to take this opportunity to comment on the following information collection(s), as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) Whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written comments should be submitted on or before November 22, 2002. If you anticipate that you will be submitting comments, but find it difficult to do so within the period of time allowed by this notice, you should advise the contact listed below as soon as possible.

ADDRESSES: Direct all comments to Judith Boley Herman or Leslie Smith, Federal Communications Commission, Room 1-C804 or Room 1-A804, 445 12th Street, SW, Washington, DC 20554 or via the Internet to jboley@fcc.gov or lesmith@fcc.gov.

FOR FURTHER INFORMATION CONTACT: For additional information or copies of the information collection(s), contact Judith Boley Herman at 202-418-0214 or via the Internet at jboley@fcc.gov.

SUPPLEMENTARY INFORMATION:

OMB Control No.: 3060-XXXX.

Title: Data Network Identification Code (DNIC).

Form No.: N/A.

Type of Review: New collection.

Respondents: Business or other for-profit.

Number of Respondents: 5.

Estimated Time Per Response: .25 hours (15 minutes).

Frequency of Response: On occasion and one-time reporting requirement.

Total Annual Burden: 1 hour.

Total Annual Cost: N/A.

Needs and Uses: The Federal Communications Commission (FCC) grants network identification codes to operators of public data networks on an international protocol. The operators of public data networks file the Data Network Identification Code (DNIC) to obtain the DNIC on a one-time only basis unless there is a change in ownership or the owner chooses to relinquish the code to the FCC. There is no fee charged to operators to file the information with the FCC.

OMB Control No.: 3060-XXXX.

Title: International Signaling Point Code (ISPC).

Form No.: N/A.

Type of Review: New collection.

Respondents: Business or other for-profit.

Number of Respondents: 40.

Estimated Time Per Response: .166 hours (10 minutes)—2 hours.

Frequency of Response: On occasion reporting requirement.

Total Annual Burden: 80 hours.

Total Annual Cost: $100,000.

Needs and Uses: The International Signaling Point Codes (ISPC's) are synonymous with telephone area codes. ISPC's are allocated to the FCC by ITU to issue and administer. These codes are assigned to carriers on a first-come, first-serve basis. If the code is not used within 12 months, the carrier forfeits the code and it is assigned to a different carrier. AT&T was responsible for this service in the 1980's. However, AT&T later informed the FCC and the International Telecommunications Union (ITU) that it would no longer perform this function. The FCC voluntarily assumed responsibility for this function. This was preferred by the carriers because the FCC could serve as a neutral third party.

Federal Communications Commission.
Marlene H. Dortch,
Secretary.

[FR Doc. 02-24022 Filed 9-20-02; 8:45 am]

BILLING CODE 6712-01-P